DEPARTMENT OF HOMELAND SECURITY

Federal Emergency Management Agency

44 CFR Part 67

[Docket ID FEMA-2010-0003; Internal Agency Docket No. FEMA-B-1140]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before December 28, 2010.

ADDRESSES: The corresponding preliminary Flood Insurance Rate Map (FIRM) for the proposed BFEs for each community is available for inspection at the community's map repository. The respective addresses are listed in the table below.

You may submit comments, identified by Docket No. FEMA-B-1140, to Roy E. Wright, Deputy Director, Risk Analysis Division, Federal Insurance and Mitigation Administration, Federal Emergency Management Agency, 500 C Street, SW., Washington, DC 20472, (202) 646-3461, or (e-mail) roy.e.wright@dhs.gov.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | * Elevation in feet (NGVD) + Elevation in feet (NAVD) # Depth in feet above ground ‸ Elevation in meters (MSL): Communities affected
Vermilion County, Illinois, and Incorporated Areas
East Branch Lick Creek | Approximately 650 feet upstream of U.S. Route 136 | None | +613 | City of Danville, Unincorporated Areas of Vermilion County.
| Approximately 350 feet downstream of Lynch Road | None | +644
North Fork Vermilion River | Approximately 940 feet downstream of Williams Street/Hungry Hollow Road | None | +543 | Unincorporated Areas of Vermilion County.
| Approximately 0.75 mile upstream of the water treatment plant dam | None | +549
Stoney Creek | Just upstream of Winter Avenue | None | +612 | Unincorporated Areas of Vermilion County
| Approximately 0.5 mile upstream of Winter Avenue | None | +615
Vermilion River | Approximately 0.75 mile downstream of I-74 | None | +533 | Unincorporated Areas of Vermilion County.
| Approximately 0.85 mile upstream of the railroad crossing upstream of the confluence of North Fork Vermilion River and parallel to H Avenue | None | +542
* National Geodetic Vertical Datum. | + North American Vertical Datum. | # Depth in feet above ground. | ‸ Mean Sea Level, rounded to the nearest 0.1 meter. | ** BFEs to be changed include the listed downstream and upstream BFEs, and include BFEs located on the stream reach between the referenced locations above. Please refer to the revised Flood Insurance Rate.
Map located at the community map repository (see below) for exact locations of all BFEs to be changed. | Send comments to Roy E. Wright, Deputy Director, Risk Analysis Division, Federal Insurance and Mitigation Administration, Federal Emergency Management Agency, 500 C Street, SW., Washington, DC 20472.
ADDRESSES
City of Danville
Maps are available for inspection at City Hall, 17 West Main Street, Danville, IL 61832.
Unincorporated Areas of Vermilion County
Maps are available for inspection at the Vermilion County Courthouse, 6 North Vermilion Street, Danville, IL 61832.
Pottawatomie County, Kansas, and Incorporated Areas
North Unnamed Tributary | Approximately 500 feet northeast of the intersection of U.S. Route 24 and Walsh Road | None | #2 | City of Wamego, Unincorporated Areas of Pottawatomie County.
| Approximately 1.0 mile northeast of the intersection of U.S. Route 24 and Walsh Road | None | #2
* National Geodetic Vertical Datum. | + North American Vertical Datum. | # Depth in feet above ground. ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Wamego
Maps are available for inspection at City Hall, 430 Lincoln Avenue, Wamego, KS 66547.
Unincorporated Areas of Pottawatomie County
Maps are available for inspection at the Pottawatomie County Courthouse, 207 North 1st Street, Westmoreland, KS 66549.
Yellowstone River | Approximately 3.26 miles downstream of Northern Pacific Railroad | None | +4357 | City of Livingston, Unincorporated Areas of Park County.
| Approximately 4.14 miles downstream of Tom Miner Creek Road | None | +4953 |
Yellowstone River East Branch | Approximately 0.76 mile downstream of I-90 | None | +4493 | City of Livingston, Unincorporated Areas of Park County.
| Approximately 0.94 mile upstream of I-90 | None | +4519
* National Geodetic Vertical Datum. | + North American Vertical Datum. | # Depth in feet above ground. | ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Livingston
Maps are available for inspection at 414 East Callender Street, Livingston, MT 59047.
Unincorporated Areas of Park County
Maps are available for inspection at 414 East Callender Street, Livingston, MT 59047.
Elk County, Pennsylvania (All Jurisdictions)
Alysworth Run | Approximately 1,192 feet upstream of West Main Street | +1400 | +1397 | Township of Ridgway.
| Approximately 75 feet downstream of Grant Road | +1424 | +1420
Clarion River | Approximately 935 feet upstream of the confluence with Alysworth Run | None | +1374 | Township of Ridgway.
| Approximately 1,193 feet downstream of Gillis Ave | None | +1374
Clarion River | Approximately 1,200 feet downstream of the confluence with Mason Creek | None | +1384 | Township of Ridgway.
| Approximately 0.56 mile upstream of the confluence with Mason Creek | None | +1387
Elk Creek | Approximately 1.18 mile upstream of the confluence with Mohan Run | None | +1408 | Township of Ridgway.
| Approximately 0.44 mile downstream of U.S. Route 219 | None | +1414
Elk Creek | Approximately 1,867 feet downstream of the confluence with Elk Creek Tributary 1 | None | +1473 | Township of Ridgway.
| Approximately 1,885 feet upstream of the confluence with Daguscahonda Run | None | +1474
Little Toby Creek | Approximately 0.71 mile downstream of the bridge over Coal Hollow Road | +1680 | +1674 | Township of Fox.
| Approximately 0.62 mile downstream of the bridge over Coal Hollow Road | +1690 | +1692
* National Geodetic Vertical Datum. | + North American Vertical Datum. | # Depth in feet above ground. | ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Township of Fox
Maps are available for inspection at the Fox Township Municipal Building, 116 Irishtown Road, Kersey, PA 15846.
Township of Ridgway
Maps are available for inspection at the Township Municipal Building, 164 Ridgway Drive, Ridgway, PA 15853.
Armstrong Creek | Approximately 100 feet downstream of Waterworks Road | None | +740 | Unincorporated Areas of Ellis County.
| Approximately 1,040 feet upstream of Waterworks Road | None | +746
Bedford Branch | Approximately 0.5 mile downstream of Southern Pacific Railroad | None | +538 | City of Grand Prairie, Unincorporated Areas of Ellis County.
| Approximately 275 feet upstream of Southern Pacific Railroad | None | +567
Cottonwood Creek | Approximately 0.74 mile upstream of Old Fort Worth Road | None | +574 | City of Grand Prairie, Unincorporated Areas of Ellis County.
| At the confluence with Newton Branch | None | +584
East Fork to Soap Creek | At the confluence with Soap Creek | None | +594 | City of Midlothian, Unincorporated Areas of Ellis County.
| Just upstream of Weatherford Road | None | +616
Hollings Branch | Approximately 0.66 mile downstream of Magic Valley Lane | None | +641 | City of Cedar Hill.
| Approximately 725 feet downstream of Magic Valley Lane | None | +659
Joe Pool Lake | Approximately 0.48 mile downstream of Southern Pacific Railroad | None | +538 | City of Grand Prairie, Unincorporated Areas of Ellis County.
| Approximately 0.37 mile upstream of FM 661 | None | +540
Newton Branch | At the confluence with Soap Creek | None | +550 | City of Grand Prairie, City of Midlothian, Unincorporated Areas of Ellis County.
| Approximately 1,360 feet upstream of Kimble Road | None | +564
Soap Creek | At the confluence with Joe Pool Lake | None | +540 | City of Grand Prairie, City of Midlothian, Unincorporated Areas of Ellis County.
| Approximately 0.26 mile downstream of U.S. Route 67 | None | +598
West Soap Creek | At the confluence with Soap Creek | None | +581 | Unincorporated Areas of Ellis County.
| Approximately 0.5 mile upstream of Ray White Road | None | +601
* National Geodetic Vertical Datum. | + North American Vertical Datum. | # Depth in feet above ground. | ‸ Mean Sea Level, rounded to the nearest 0.1 meter.
** BFEs to be changed include the listed downstream and upstream BFEs, and include BFEs located on the stream reach between the referenced locations above. Please refer to the revised Flood Insurance Rate.
Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Cedar Hill
Maps are available for inspection at City Hall, 502 Cedar Street, Cedar Hill, TX 75104.
City of Grand Prairie
Maps are available for inspection at City Hall, 317 College Street, Grand Prairie, TX 75053.
City of Midlothian
Maps are available for inspection at City Hall, 104 West Avenue East, Midlothian, TX 76065.
Unincorporated Areas of Ellis County
Maps are available for inspection at the Ellis County Courthouse, 101 West Main Street, Waxahachie, TX 75165.

(Catalog of Federal Domestic Assistance No. 97.022, “Flood Insurance.”)

Dated: September 17, 2010.
Sandra K. Knight,
Deputy Federal Insurance and Mitigation Administrator, Mitigation, Department of Homeland Security, Federal Emergency Management Agency.

[FR Doc. 2010-24370 Filed 9-28-10; 8:45 am]

BILLING CODE 9110-12-P